DEPARTMENT OF DEFENSE

Department of the Navy

Notice of Partially Closed Meeting of the Secretary of the Navy Advisory Panel

AGENCY: Department of the Navy, DoD.

ACTION: Notice.

SUMMARY: The SECNAV Advisory Panel will discuss recommendations for the Department of the Navy's acquisition structure and strategies related to a classified topic.

DATES: The meeting will be held on September 25, 2008 from 8:30 a.m. to 4:30 p.m. The morning sessions on Acquisition Structure from 8:30 a.m. to 11:30 a.m. will be open. The afternoon sessions will be closed.

ADDRESSES: The meeting will be held at the Pentagon Conference Center across from the Corridor 8 entrance to the Pentagon. Public access is limited due to the Pentagon Security requirements. Members of the public wishing to attend will need to contact LCDR Cary Knox at 703-693-0463 or Colonel Simkins-Mullins at 703-697-9154 no later than September 19, 2008 and provide Name, Date of Birth and Social Security number. Public transportation is recommended as public parking is not available. Members of the public wishing to attend this event must enter through the Pentagon's Metro Entrance between 7:45 a.m. and 8:15 a.m. where they will need two forms of identification in order to receive a visitor's badge and meet their escort. Members will then be escorted to the Pentagon Conference Center to attend the open sessions of the Advisory Panel. Members of the public shall remain with designated escorts at all times while on the Pentagon Reservation. Members of the public will be escorted back to the Pentagon Metro Entrance at 11:30 a.m.

FOR FURTHER INFORMATION CONTACT: Colonel Caroline Simkins-Mullins, SECNAV Advisory Panel, Office of Program and Process Assessment, 1000 Navy Pentagon, Washington, DC 20350, telephone: 703-697-9154.

SUPPLEMENTARY INFORMATION: Pursuant to the provisions of the Federal Advisory Committee Act, as amended (5 U.S.C. App.), these matters of the afternoon sessions constitute classified information that is specifically authorized by Executive Order to be kept secret in the interest of national defense and is, in fact, properly classified pursuant to such Executive Order.

Accordingly, the Secretary of the Navy has determined in writing that the public interest requires that portions of this meeting be closed to the public because they will be concerned with matters listed in section 552b(c)(1) of Title 5, United States Code.

Individuals or interested groups may submit written statements for consideration by the Secretary of the Navy Advisory Panel at any time or in response to the agenda of a scheduled meeting. All requests must be submitted to the Designated Federal Officer at the address detailed below. If the written statement is in response to the agenda mentioned in this meeting notice, then the statement, if it is to be considered by the Panel for this meeting, must be received at least five days prior to the meeting in question.

The Designated Federal Officer will review all timely submissions with the Secretary of the Navy Advisory Panel Chairperson, and ensure they are provided to members of the Secretary of the Navy Advisory Panel before the meeting that is the subject of this notice.

To contact the Designated Federal Officer, write to: Designated Federal Officer, SECNAV Advisory Panel, Office of Program and Process Assessment, 1000 Navy Pentagon, Washington, DC 20350, Telephone: 703-697-9154.

Dated: August 28, 2008.
T. M. Cruz,
Lieutenant Commander, Judge Advocate General's Corps, U.S. Navy, Federal Register Liaison Officer.

[FR Doc. E8-20554 Filed 9-4-08; 8:45 am]

BILLING CODE 3810-FF-P